DEPARTMENT OF ENERGY

Federal Energy Regulatory Commission

Combined Notice of Filings #1

September 23, 2010.

Take notice that the Commission received the following electric corporate filings:

Docket Numbers: EC10-101-000.

Applicants: Hatchet Ridge Wind, LLC.

Description: Hatchet Ridge Wind, LLC submits application approval of a proposed sale- leaseback under section 203 of the Federal Power Act.

Filed Date: 09/22/2010.

Accession Number: 20100923-0201.

Comment Date: 5 p.m. Eastern Time on Wednesday, October 13, 2010.

Take notice that the Commission received the following electric rate filings:

Docket Numbers: ER10-1151-002.

Applicants: AmerenEnergy Resources Generating Company.

Description: AmerenEnergy Resources Generating Company submits tariff filing per 35: AERG Correction to Baseline to be effective 5/3/2010.

Filed Date: 09/22/2010.

Accession Number: 20100922-5165.

Comment Date: 5 p.m. Eastern Time on Wednesday, October 13, 2010.

Docket Numbers: ER10-2168-001.

Applicants: Pacific Gas and Electric Company.

Description: Pacific Gas and Electric Company submits tariff filing per 35: Compliance Filing to Revise Collinsville LGIA to be effective 10/9/2010.

Filed Date: 09/17/2010.

Accession Number: 20100917-5138.

Comment Date: 5 p.m. Eastern Time on Friday, October 8, 2010.

Docket Numbers: ER10-2710-001.

Applicants: PJM Interconnection, LLC.

Description: PJM Interconnection, LLC submits tariff filing per 35: PJM Tariffs—Baseline Amendment of OATT, OA and RAA to be effective N/A.

Filed Date: 09/23/2010.

Accession Number: 20100923-5018.

Comment Date: 5 p.m. Eastern Time on Thursday, October 14, 2010.

Docket Numbers: ER10-2713-001.

Applicants: PJM Interconnection, LLC.

Description: PJM Interconnection, LLC submits tariff filing per 35: PJM Rate Schedules—Baseline Amendment to be effective N/A.

Filed Date: 09/23/2010.

Accession Number: 20100923-5021.

Comment Date: 5 p.m. Eastern Time on Thursday, October 14, 2010.

Docket Numbers: ER10-2746-001.

Applicants: PJM Interconnection, LLC.

Description: PJM Interconnection, LLC submits tariff filing per 35: PJM Interregional Tariffs—Baseline Amendment to be effective N/A.

Filed Date: 09/23/2010.

Accession Number: 20100923-5019.

Comment Date: 5 p.m. Eastern Time on Thursday, October 14, 2010.

Docket Numbers: ER10-2854-000.

Applicants: ConocoPhillips Company.

Description: ConocoPhillips Company submits tariff filing per 35.12: Baseline to be effective 9/22/2010.

Filed Date: 09/22/2010.

Accession Number: 20100922-5147.

Comment Date: 5 p.m. Eastern Time on Wednesday, October 13, 2010.

Docket Numbers: ER10-2855-000.

Applicants: Georgia Power Company.

Description: Georgia Power Company submits tariff filing per 35.12: Baseline Filing to be effective 9/22/2010.

Filed Date: 09/22/2010.

Accession Number: 20100922-5152.

Comment Date: 5 p.m. Eastern Time on Wednesday, October 13, 2010.

Docket Numbers: ER10-2856-000.

Applicants: Ocean State Power II.

Description: Ocean State Power II submits tariff filing per 35.12: Ocean State Power II FERC Electric Tariff to be effective 11/22/2010.

Filed Date: 09/22/2010.

Accession Number: 20100922-5163.

Comment Date: 5 p.m. Eastern Time on Wednesday, October 13, 2010.

Docket Numbers: ER10-2857-000.

Applicants: Gulf Power Company.

Description: Gulf Power Company submits tariff filing per 35.12: Baseline Filing to be effective 9/22/2010.

Filed Date: 09/22/2010.

Accession Number: 20100922-5164.

Comment Date: 5 p.m .Eastern Time on Wednesday, October 13, 2010.

Docket Numbers: ER10-2858-000.

Applicants: Midwest Independent Transmission System Operator, Inc.

Description: Midwest Independent Transmission System Operator, Inc. submits tariff filing per 35.13(a)(2)(iii): 09-22-10 Attachment CC revisions to be effective 11/21/2010.

Filed Date: 09/22/2010.

Accession Number: 20100922-5166.

Comment Date: 5 p.m. Eastern Time on Wednesday, October 13, 2010.

Docket Numbers: ER10-2859-000.

Applicants: Mississippi Power Company.

Description: Mississippi Power Company submits tariff filing per 35.12: Baseline Filing to be effective 9/22/2010.

Filed Date: 09/22/2010.

Accession Number: 20100922-5167.

Comment Date: 5 p.m. Eastern Time on Wednesday, October 13, 2010.

Docket Numbers: ER10-2860-000.

Applicants: TC Ravenswood, LLC.

Description: TC Ravenswood, LLC submits tariff filing per 35.12: TC Ravenswood, LLC Market-Based Sale of Capacity, Energy and Ancillary Services to be effective 11/22/2010.

Filed Date: 09/22/2010.

Accession Number: 20100922-5168.

Comment Date: 5 p.m. Eastern Time on Wednesday, October 13, 2010.

Docket Numbers: ER10-2861-000.

Applicants: Fountain Valley Power, LLC.

Description: Fountain Valley Power, LLC submits tariff filing per 35.12: Baseline MBR Tariff Filing of Fountain Valley Power, LLC to be effective 9/23/2010.

Filed Date: 09/22/2010.

Accession Number: 20100922-5169.

Comment Date: 5 p.m. Eastern Time on Wednesday, October 13, 2010.

Docket Numbers: ER10-2862-000.

Applicants: Harbor Cogeneration Company, LLC.

Description: Harbor Cogeneration Company, LLC submits tariff filing per 35.12: Baseline MBR Tariff Filing of Harbor Cogeneration Company, LLC to be effective 9/23/2010.

Filed Date: 09/22/2010.

Accession Number: 20100922-5170.

Comment Date: 5 p.m. Eastern Time on Wednesday, October 13, 2010.

Docket Numbers: ER10-2863-000.

Applicants: Las Vegas Cogeneration II, LLC.

Description: Las Vegas Cogeneration II, L.L.C. submits tariff filing per 35.12: Baseline MBR Tariff Filing of Las Vegas Cogeneration II, LLC to be effective 9/23/2010.

Filed Date: 09/22/2010.

Accession Number: 20100922-5171.

Comment Date: 5 p.m. Eastern Time on Wednesday, October 13, 2010.

Docket Numbers: ER10-2864-000.

Applicants: Las Vegas Cogeneration Limited Partnership.

Description: Las Vegas Cogeneration Limited Partnership submits tariff filing per 35.12: Baseline MBR Tariff Filing of Las Vegas Cogeneration Limited Partnership to be effective 9/23/2010.

Filed Date: 09/22/2010.

Accession Number: 20100922-5172.

Comment Date: 5 p.m. Eastern Time on Wednesday, October 13, 2010.

Docket Numbers: ER10-2865-000.

Applicants: TransCanada Energy Sales Ltd.

Description: TransCanada Energy Sales Ltd. submits tariff filing per 35.12: TransCanada Energy Sales Ltd. Rate Schedule FERC No. 1 to be effective 11/22/2010.

Filed Date: 09/22/2010.

Accession Number: 20100922-5173.

Comment Date: 5 p.m. Eastern Time on Wednesday, October 13, 2010.

Docket Numbers: ER10-2866-000.

Applicants: SWG Colorado, LLC.

Description: SWG Colorado, LLC submits tariff filing per 35.12: Baseline MBR Tariff Filing of SWG Colorado, LLC to be effective 9/23/2010.

Filed Date: 09/22/2010.

Accession Number: 20100922-5174.

Comment Date: 5 p.m. Eastern Time on Wednesday, October 13, 2010.

Docket Numbers: ER10-2867-000.

Applicants: Valencia Power, LLC.

Description: Valencia Power, LLC submits tariff filing per 35.12: Baseline MBR Tariff Filing of Valencia Power, LLC to be effective 9/23/2010.

Filed Date: 09/22/2010.

Accession Number: 20100922-5175.

Comment Date: 5 p.m. Eastern Time on Wednesday, October 13, 2010.

Docket Numbers: ER10-2868-000.

Applicants: TransCanada Hydro Northeast Inc.

Description: TransCanada Hydro Northeast Inc. submits tariff filing per 35.12: TransCanada Hydro Northeast Inc. Rate Schedule FERC No. 1 to be effective 11/22/2010.

Filed Date: 09/22/2010.

Accession Number: 20100922-5176.

Comment Date: 5 p.m. Eastern Time on Wednesday, October 13, 2010.

Docket Numbers: ER10-2869-000.

Applicants: Midwest Independent Transmission System Operator, Inc.

Description: Midwest Independent Transmission System Operator, Inc. submits tariff filing per 35.13(a)(2)(iii): Module B Cross Border Out to be effective 11/22/2010.

Filed Date: 09/22/2010.

Accession Number: 20100922-5177.

Comment Date: 5 p.m. Eastern Time on Wednesday, October 13, 2010.

Docket Numbers: ER10-2870-000.

Applicants: TransCanada Power Marketing Ltd.

Description: TransCanada Power Marketing Ltd. submits Second Revised Sheet No. 1, to be effective 11/22/2010.

Filed Date: 09/23/2010.

Accession Number: 20100923-5000.

Comment Date: 5 p.m. Eastern Time on Thursday, October 14, 2010.

Docket Numbers: ER10-2871-000.

Applicants: Keystone Power LLC.

Description: Keystone Power LLC submits its baseline tariff, FERC Electric Tariff No. 1, Volume No. 1, to be effective 9/23/2010.

Filed Date: 09/23/2010.

Accession Number: 20100923-5001.

Comment Date: 5 p.m. Eastern Time on Thursday, October 14, 2010.

Docket Numbers: ER10-2872-000.

Applicants: TransCanada Maine Wind Development Inc.

Description: TransCanada Maine Wind Development Inc. submits Second Revised Sheet No 1, to be effective 11/22/2010.

Filed Date: 09/23/2010.

Accession Number: 20100923-5002.

Comment Date: 5 p.m. Eastern Time on Thursday, October 14, 2010.

Docket Numbers: ER10-2873-000.

Applicants: Lexington Power & Light, LLC.

Description: Lexington Power & Light, LLC submits Petition for Acceptance of Initial Tariff, Waivers and Blanket Authorization.

Filed Date: 09/23/2010.

Accession Number: 20100923-0205.

Comment Date: 5 p.m. Eastern Time on Thursday, October 14, 2010.

Docket Numbers: ER10-2874-000.

Applicants: Echelon Investments Inc.

Description: Echelon Investments Inc submits Petition for Approval of Initial Market-Based Rate Tariff and Certain Blanket Authority and Waivers.

Filed Date: 09/23/2010.

Accession Number: 20100923-0204.

Comment Date: 5 p.m. Eastern Time on Thursday, October 14, 2010.

Docket Numbers: ER10-2875-000.

Applicants: Keystone Power LLC.

Description: Keystone Power LLC submits tariff filing per 35.12: Keystone Power FERC Electric Tariff to be effective 9/23/2010.

Filed Date: 09/23/2010.

Accession Number: 20100923-5017.

Comment Date: 5 p.m. Eastern Time on Thursday, October 14, 2010.

Docket Numbers: ER10-2876-000.

Applicants: Louisiana Generating LLC.

Description: Louisiana Generating LLC submits tariff filing per 35.12: Louisiana Generating FERC Electric Tariff to be effective 9/23/2010.

Filed Date: 09/23/2010.

Accession Number: 20100923-5022.

Comment Date: 5 p.m. Eastern Time on Thursday, October 14, 2010.

Docket Numbers: ER10-2877-000.

Applicants: Cobb Electric Membership Corporation.

Description: Cobb Electric Membership Corporation submits tariff filing per 35.12: Cobb Electric Baseline Tariff filing to be effective 9/23/2010.

Filed Date: 09/23/2010.

Accession Number: 20100923-5047.

Comment Date: 5 p.m. Eastern Time on Thursday, October 14, 2010.

Docket Numbers: ER10-2878-000.

Applicants: Middleton Power LLC.

Description: Middleton Power LLC submits tariff filing per 35.12: Middleton Power FERC Electric Tariff to be effective 9/23/2010.

Filed Date: 09/23/2010.

Accession Number: 20100923-5056.

Comment Date: 5 p.m.Eastern Time on Thursday, October 14, 2010.

Docket Numbers: ER10-2879-000.

Applicants: Montville Power LLC.

Description: Montville Power LLC submits tariff filing per 35.12: Montville Power FERC Electric Tariff to be effective 9/23/2010.

Filed Date: 09/23/2010.

Accession Number: 20100923-5058.

Comment Date: 5 p.m. Eastern Time on Thursday, October 14, 2010.

Docket Numbers: ER10-2880-000.

Applicants: NEO Freehold LLC.

Description: NEO Freehold LLC submits tariff filing per 35.12: NEO Freehold FERC Electric Tariff to be effective 9/23/2010.

Filed Date: 09/23/2010.

Accession Number: 20100923-5068.

Comment Date: 5 p.m. Eastern Time on Thursday, October 14, 2010.

Docket Numbers: ER10-2881-000.

Applicants: Alabama Power Company.

Description: Alabama Power Company submits its Tariff Title (Tariff Database)—Market Based Rate Tariff, Volume No 4, to be effective 9/23/2010.

Filed Date: 09/23/2010.

Accession Number: 20100923-5069.

Comment Date: 5 p.m. Eastern Time on Thursday, October 14, 2010.

Docket Numbers: ER10-2882-000.

Applicants: Southern Power Company.

Description: Southern Power Company submits tariff filing per 35.12: Baseline Filing to be effective 9/23/2010.

Filed Date: 09/23/2010.

Accession Number: 20100923-5074.

Comment Date: 5 p.m. Eastern Time on Thursday, October 14, 2010.

Docket Numbers: ER10-2883-000.

Applicants: Mississippi Power Company.

Description: Mississippi Power Company submits tariff filing per 35.12: Baseline Filing to be effective 9/23/2010.

Filed Date: 09/23/2010.

Accession Number: 20100923-5075.

Comment Date: 5 p.m .Eastern Time on Thursday, October 14, 2010.

Docket Numbers: ER10-2884-000.

Applicants: Georgia Power Company.

Description: Georgia Power Company submits tariff filing per 35.12: Baseline Filing to be effective 9/23/2010.

Filed Date: 09/23/2010.

Accession Number: 20100923-5076.

Comment Date: 5 p.m .Eastern Time on Thursday, October 14, 2010.

Docket Numbers: ER10-2885-000.

Applicants: Gulf Power Company.

Description: Gulf Power Company submits tariff filing per 35.12: Baseline Filing to be effective 9/23/2010.

Filed Date: 09/23/2010.

Accession Number: 20100923-5077.

Comment Date: 5 p.m .Eastern Time on Thursday, October 14, 2010.

Docket Numbers: ER10-2886-000.

Applicants: Southern Turner Cimarron I, LLC.

Description: Southern Turner Cimarron I, LLC submits tariff filing per 35.12: Baseline Filing to be effective 9/23/2010.

Filed Date: 09/23/2010.

Accession Number: 20100923-5080.

Comment Date: 5 p.m. Eastern Time on Thursday, October 14, 2010.

Docket Numbers: ER10-2888-000.

Applicants: Norwalk Power LLC.

Description: Norwalk Power LLC submits tariff filing per 35.12: Norwalk Power FERC Electric Tariff to be effective 9/23/2010.

Filed Date: 09/23/2010.

Accession Number: 20100923-5091.

Comment Date: 5 p.m. Eastern Time on Thursday, October 14, 2010.

Docket Numbers: ER10-2895-000.

Applicants: Bear Swamp Power Company LLC.

Description: Bear Swamp Power Company LLC submits tariff filing per 35.12: Bear Swamp Power Company LLC Market-Based Rate Tariff to be effective 9/23/2010.

Filed Date: 09/23/2010.

Accession Number: 20100923-5096.

Comment Date: 5 p.m. Eastern Time on Thursday, October 14, 2010.

Docket Numbers: ER10-2896-000.

Applicants: NRG Energy Center Dover LLC.

Description: NRG Energy Center Dover LLC submits tariff filing per 35.12: NRG Energy Center Dover FERC Electric Tariff to be effective 9/23/2010.

Filed Date: 09/23/2010.

Accession Number: 20100923-5108.

Comment Date: 5 p.m. Eastern Time on Thursday, October 14, 2010.

Docket Numbers: ER10-2897-000.

Applicants: Krayn Wind LLC.

Description: Krayn Wind LLC submits tariff filing per 35.12: Krayn Wind LLC Market Based Rate Baseline eTariff Filing to be effective 9/23/2010.

Filed Date: 09/23/2010.

Accession Number: 20100923-5122.

Comment Date: 5 p.m. Eastern Time on Thursday, October 14, 2010.

Docket Numbers: ER10-2898-000.

Applicants: Utility Contract Funding II, LLC.

Description: Utility Contract Funding II, LLC submits tariff filing per 35.12: Baseline to be effective 9/23/2010.

Filed Date: 09/23/2010.

Accession Number: 20100923-5123.

Comment Date: 5 p.m. Eastern Time on Thursday, October 14, 2010.

Docket Numbers: ER10-2899-000.

Applicants: South Eastern Electric Development Corp.

Description: South Eastern Electric Development Corp. submits tariff filing per 35.12: Baseline to be effective 9/23/2010.

Filed Date: 09/23/2010.

Accession Number: 20100923-5124.

Comment Date: 5 p.m. Eastern Time on Thursday, October 14, 2010.

Docket Numbers: ER10-2900-000.

Applicants: South Eastern Generating Corp.

Description: South Eastern Generating Corp. submits tariff filing per 35.12: Baseline to be effective 9/23/2010.

Filed Date: 09/23/2010.

Accession Number: 20100923-5125.

Comment Date: 5 p.m. Eastern Time on Thursday, October 14, 2010.

Docket Numbers: ER10-2901-000.

Applicants: Brookfield Energy Marketing Inc.

Description: Brookfield Energy Marketing Inc. submits tariff filing per 35.12: Brookfield Energy Marketing Inc. Baseline Market-Based Rate Tarriff to be effective 9/23/2010.

Filed Date: 09/23/2010.

Accession Number: 20100923-5126.

Comment Date: 5 p.m. Eastern Time on Thursday, October 14, 2010.

Docket Numbers: ER10-2902-000.

Applicants: Brookfield Energy Marketing US LLC.

Description: Brookfield Energy Marketing US LLC submits tariff filing per 35.12: Brookfield Energy Marketing US LLC Baseline Market-Based Rate Tariff to be effective 9/23/2010.

Filed Date: 09/23/2010.

Accession Number: 20100923-5129.

Comment Date: 5 p.m. Eastern Time on Thursday, October 14, 2010.

Docket Numbers: ER10-2903-000.

Applicants: PacifiCorp.

Description: PacifiCorp submits tariff filing per 35.13(a)(2)(iii): BPA Long Term Firm Point to Point (Lost Creek) to be effective 9/8/2010.

Filed Date: 09/23/2010.

Accession Number: 20100923-5130.

Comment Date: 5 p.m. Eastern Time on Thursday, October 14, 2010.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25089 Filed 10-5-10; 8:45 am]

BILLING CODE 6717-01-P